DEPARTMENT OF STATE

[Public Notice 4961]

United States Climate Change Science Program

ACTION: Request expert review of the Intergovernmental Panel on Climate Change (IPCC) “Special Report on Carbon Dioxide Capture and Storage” (SRCCS).

SUMMARY: In addition to periodic assessments of the science, impacts, and socio-economic aspects of climate change, the IPCC provides, on request, advice to the Conference of the Parties to the United Nations Framework Convention on Climate Change (UNFCCC) and its bodies. The Seventh Conference of the Parties (COP) of the UNFCCC expressed interest in carbon capture and storage by inviting the IPCC to prepare a Technical Paper on geological carbon storage technologies. The IPCC noted that a Technical Paper, which is limited in its scope to summarizing existing IPCC reports, would be difficult to produce using the very limited material covered in the IPCC Third Assessment Report. At its 20th session (February 2003), the IPCC decided to prepare a Special Report (which, like a full assessment report, covers all available literature) and approved an outline and schedule. Working Group III is overseeing preparation of this Special Report, which is being written by a team of over 100 authors under established IPCC rules and procedures.

The IPCC Secretariat has informed the U.S. Department of State that the second-order SRCCS draft is available for expert and Government review. The Climate Change Science Program Office (CCSPO) is coordinating the solicitation of comments by U.S. experts and stakeholders to inform development of an integrated set of U.S. Government comments on the report. Instructions on how to format comments are available at http://www.climatescience.gov/Library/ipcc/srccs-review.htm, as is the document itself. Comments must be sent to CCSPO by 23 February 2005 to be considered for inclusion in the U.S. Government collation.

Time and Date: Properly formatted comments should be sent to CCSPO at srccs-USGreview@climatescience.gov by COB Wednesday, 23 February 2005. Include report acronym and reviewer surname in e-mail subject title to facilitate processing.

FOR FURTHER INFORMATION CONTACT: David Dokken, U.S. Climate Change Science Program, Suite 250, 1717 Pennsylvania Ave., NW., Washington, DC 20006 (http://www.climatescience.gov).

Dated: January 18, 2005.
Daniel A. Reifsnyder,
Office Director, Office of Global Change, Bureau of Oceans and International Environmental and Scientific Affairs, Department of State.

[FR Doc. 05-1365 Filed 1-24-05; 8:45 am]

BILLING CODE 4710-09-P